ENVIRONMENTAL PROTECTION AGENCY

40 CFR Part 300

Addition of a Subsurface Intrusion Component to the Hazard Ranking System

CFR Correction

In Title 40 of the Code of Federal Regulations, Parts 300 to 399, revised as of July 1, 2017, on page 117, in Appendix A to Part 300, the definition of “source” is reinstated to read as follows:

Appendix A to Part 300—The Hazard Ranking System

* * * * *

1.1 Definitions

* * * * *

Source: Any area where a hazardous substance has been deposited, stored, disposed, or placed, plus those soils that have become contaminated from migration of a hazardous substance. Sources do not include those volumes of air, ground water, surface water, or surface water sediments that have become contaminated by migration, except: In the case of either a ground water plume with no identified source or contaminated surface water sediments with no identified source, the plume or contaminated sediments may be considered a source.

* * * * *

[FR Doc. 2018-01972 Filed 1-30-18; 8:45 am]

BILLING CODE 1301-00-D